DEPARTMENT OF THE TREASURY

Office of Foreign Assets Control

Designation of One Individual and Three Entities Pursuant to Executive Order

SUB-AGENCY: Office of Foreign Assets Control, Treasury.

ACTION: Notice.

SUMMARY: The Treasury Department's Office of Foreign Assets Control (“OFAC”) is publishing the name of one individual and three entities whose property and interests in property are blocked pursuant to Executive Order 13619 of July 11, 2012, “Blocking Property of Persons Threatening the Peace, Security, or Stability of Burma.”

DATES: The designation by the Director of OFAC of the one individual and three entities named in this notice, pursuant to Executive Order 13619, is effective December 17, 2013.

FOR FURTHER INFORMATION CONTACT: Assistant Director, Sanctions Compliance and Evaluation, Office of Foreign Assets Control, Department of the Treasury, Washington, DC 20220, Tel.: 202/622-2490.

SUPPLEMENTARY INFORMATION:

Electronic and Facsimile Availability

This document and additional information concerning OFAC are available from OFAC's Web site (www.treasury.gov/ofac) or via facsimile through a 24-hour fax-on-demand service, Tel.: 202/622-0077.

Background

On July 11, 2012, President Barack Obama signed Executive Order 13619, “Blocking Property of Persons Threatening the Peace, Security, or Stability of Burma” (“E.O. 13619”), 77 FR 41243 (July 13, 2012), pursuant to, inter alia, the International Emergency Economic Powers Act (50 U.S.C. 1701 et seq.), which modifies the scope of the national emergency declared in Executive Order 13047 of May 20, 1997, as modified in scope in Executive Order 13448 of October 18, 2007, and relied upon for additional steps taken in Executive Order 13310 of July 28, 2003, Executive Order 13448 of October 18, 2007, and Executive Order 13464 of April 30, 2008.

Section 1(a) of E.O. 13619 blocks, with certain exceptions, all property and interests in property that are in the United States, that come within the United States, or that are or come within the possession or control of any United States person, including any foreign branch, of persons determined by the Secretary of the Treasury, in consultation with or at the recommendation of the Secretary of State, to satisfy any of the criteria set forth in subparagraphs (a)(i)-(a)(vi) of Section 1. On December 17, 2013, the Director of OFAC, in consultation with or at the recommendation of the Department of State, designated pursuant to one or more of the criteria set forth in Section 1, subparagraphs (a)(i)-(a)(vi) of E.O. 13619, the following individual and entities, whose names have been added to the list of Specially Designated Nationals and Blocked Persons and whose property and interests in property are blocked pursuant to E.O. 13619:

1. OO, Kyaw Nyunt; DOB 30 June 1959; Lieutenant Colonel; Staff Officer (Grade 1), D.D.I. (individual) [BURMA].

2. ASIA METAL COMPANY LIMITED, No. 106 Pan Pe Khaung Maung Khtet Road, Industrial Zone (4), Shwe Pyi Thar Township, Yangon, Burma; No. (40) Yangon-Mandalay Road, Kywe Sekan, Pyay Gyi Tagon Township, Mandalay, Burma; No. A/B (1-5), Paung Laung (24) Street, Ext., Ward (2), Nay Pyi Taw, Pyinmana, Burma; Web site http://www.amcsteel.com; email Address asiametal@myanmar.com.mm [BURMA].

3. EXCELLENCE MINERAL MANUFACTURING CO., LTD., Plot No. (142), U Ta Yuoat Gyi Street, Industrial Zone No. (4), Hlaing Thar Yar Township, Yangon, Burma [BURMA].

4. SOE MIN HTAIK CO. LTD. (a.k.a. SOE MING HTIKE; a.k.a. SOE MIN HTIKE CO., LTD.; a.k.a. SOE MIN JTIAK CO. LTD.), No. 4, 6A Kabaaye Pagoda Road, Mayangon Township, Yangon, Burma; No. 3, Kan Street, No. 10 Ward, Hlaing Township, Yangon, Burma [BURMA].

Dated: December 17, 2013.
Adam Szubin,
Director, Office of Foreign Assets Control.

[FR Doc. 2013-30627 Filed 12-24-13; 8:45 am]

BILLING CODE 4810-AL-P